DEPARTMENT OF DEFENSE

Department of the Army; Corps of Engineers

Availability of Baltimore Harbor and Channels Dredged Material Management Plan and Final Tiered Environmental Impact Statement

AGENCY: Department of the Army, U.S. Army Corps of Engineers, DoD.

ACTION: Notice of availability.

SUMMARY: In accordance with the requirements of the National Environmental Policy Act, the U.S. Army Corps of Engineers (USACE), Baltimore District has prepared a Final Tiered Environmental Impact Statement (FTEIS) and Dredged Material Management Plan (DMMP) to analyze dredged material placement for the Port of Baltimore for 20 years of maintenance and new work dredging. USACE is making the document available to the public through a Notice of Availability published in the Federal Register. The overall goal of the DMMP is to develop a plan to maintain, in an economically and environmentally sound manner, channels necessary for navigation for the Port of Baltimore, conduct dredged material placement in the most environmentally sound manner, and maximize the use of dredged material as a beneficial resource. The recommendations which will provide a minimum of 20 years of dredged material placement capacity for the Port of Baltimore are:

• Continued maintenance dredging of the Virginia channels and use of the existing open-water placement sites in Virginia (Dam Neck Open Water Placement; Rappahannock Shoal Deep Alternate Open Water Placement; and Wolf Trap Alternate Open Water Placement).

• Continued maintenance dredging of the Maryland channels and use of the existing sites in Maryland including Pooles Island Open Water Site, Hart-Miller Island Dredged Material Containment Facility (HMI DMCF), Cox Creek Confined Disposal Facility (CDF) (+36 ft dike height), and Poplar Island Environmental Restoration Project (PIERP).

• Multiple confined disposal facilities for harbor material in Patapsco River.

• PIERP Expansion in Talbot County, Maryland.

• Large Island Restoration in Middle Chesapeake Bay, Maryland.

• Wetland Restoration in Dorchester County, Maryland.

• Continue to pursue opportunities to innovatively use dredged material.

ADDRESSES: U.S. Army Corps of Engineers, Baltimore District, Attn: Mr. Mark Mendelsohn, Planning Division, P.O. Box 1715, Baltimore, MD 21203-1715, or electronically to Mark.Mendelsohn@usace.army.mil.

FOR FURTHER INFORMATION CONTACT: Mr. Mark Mendelsohn, Biologist, USACE, Baltimore District, Planning Division, (410) 962-9499 or (800) 295-1610.

SUPPLEMENTARY INFORMATION: A key mission of the U.S. Army Corps of Engineers is to provide safe, reliable, and efficient waterborne transportation systems (channels, harbors, and waterways) for movement of commerce, national security needs, and recreation. Accomplishing this successfully requires dredging of channels to adequately meet the needs of waterborne transportation. Operating and maintaining the nation's harbors and waterways, which includes the placement and/or management of dredged material, is an increasingly challenging task. USACE continues its priority mission to plan and implement sound management of dredged materials.

Since 1824, the USACE Baltimore District has been actively involved in constructing and maintaining a system of channels to allow large, deep-draft commercial shipping vessels to call on the Port of Baltimore. In addition to the shipping channels, a number of anchorage areas were established within the Port of Baltimore for vessels requiring layover. The existing project for the Baltimore Harbor and Channels was authorized by the River and Harbor Act of August 8, 1917 and was modified by the River and Harbor Acts of January 1927, July 1930, October 1940, March 1945, July 1958, and December 1970. The USACE Engineering Regulation (ER) 1105-2-100 mandates that the USACE Districts develop a DMMP for all federally maintained navigation harbor projects where there is an indication of insufficient placement capacity to accommodate maintenance dredging for the next 20 years. The DMMP is a planning document that ensures maintenance-dredging activities are performed in an environmentally acceptable manner, use sound engineering techniques, and are economically justified. A DMMP addresses a full range of placement alternatives, leading to the selection of a final plan that ensures that sufficient placement capacity is available for the next 20 years.

The DMMP for the Baltimore Harbor and Channels project has been developed using a consistent and logical procedure by which dredged material management alternatives have been identified, evaluated, screened, and recommended so that dredged material placement operations are conducted in a timely, environmentally sensitive, and cost-effective manner.

A Notice of Intent to prepare and Environmental Impact Statement was published in the Federal Register in May 2002 and scoping meetings were held in June 2002. The public was invited to provide oral comments at the scoping meetings and to submit additional comments to the Baltimore District. The Draft TEIS was distributed to the public on February 9, 2005. Two public meetings on the Draft TEIS were held in March 2005. All persons and organizations that have an interest in the DMMP were urged to participate in one or both meetings.

The Final TEIS may be viewed on the Baltimore District's Web page at http://www.nab.usace.army.mil/projects//DMMP/index.html. USACE has distributed copies of the TEIS to appropriate members of Congress, State and local government officials, Federal agencies, and other interested parties. Copies are available for public review at the following locations:

(1) Queen Anne's Public Library, Stevensville Branch, 200 Library Circle, Stevensville, MD 21666.

(2) Baltimore County Public Library, 1110 Eastern Boulevard, Baltimore, MD 21221.

(3) Anne Arundel County Public Library, 1410 West Street, Annapolis, MD 21401.

(4) St. Mary's County Public Library, 23250 Hollywood Road, Leonardtown, MD 20650.

(5) Somerset County Public Library, 11767 Beachwood St., Princess Anne, MD 21853.

(6) Dorchester County Public Library, 303 Gay Street, Cambridge, MD 21613.

For information on this document or to obtain copies, please contact Mr. Mark Mendelsohn (see ADDRESSES).

The Final TEIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2). A record of decision (ROD) for this project will not be signed until at least 30 days from the date of EPA's notice of availability publication in the Federal Register.

Mark Mendelsohn,
Biologist, Baltimore District, USACE.

Baltimore District, USACE.

[FR Doc. 06-484 Filed 1-19-06; 8:45 am]

BILLING CODE 3710-41-M